LEGAL SERVICES CORPORATION

Sunshine Act Meeting; Institutional Advancement Committee; Correction

AGENCY: Legal Services Corporation.

ACTION: Correction notice.

SUMMARY: On March 17, 2016, the Legal Services Corporation (LSC) published a notice in the Federal Register (81 FR 14487) titled “Institutional Advancement Committee Telephonic Meeting on March 22, 2016 at 10:30 a.m., EDT.” The meeting commencement time is incorrect. This document corrects the notice by changing the commencement time to 10:00 a.m., EDT.”

CHANGES IN THE MEETING: Commencement time of the meeting is 10:00 a.m., EDT.

DATES: This correction is effective March 17, 2016.

FOR FURTHER INFORMATION CONTACT: Katherine Ward, Executive Assistant to the Vice President for Legal Affairs and General Counsel, Legal Services Corporation, 3333 K Street NW., Washington, DC 20007; (202) 295-1500; kward@lsc.gov.

Dated: March 17, 2016.
Katherine Ward,
Executive Assistant to the Vice President for Legal Affairs and General Counsel.

[FR Doc. 2016-06394 Filed 3-17-16; 11:15 am]

BILLING CODE 7050-01-P